Title 3—

The President

Proclamation 7978 of February 1, 2006

American Heart Month, 2006

By the President of the United States of America

A Proclamation

More than 70 million Americans live with some form of heart disease, and this disease remains the leading cause of death in the United States. During American Heart Month, we reinforce our commitment to fighting heart disease by promoting awareness about its risks, its causes, and the ways to reduce the chance of developing this deadly illness.

Many of the factors that lead to heart disease, such as high blood pressure, high blood cholesterol, and obesity, can be controlled with commonsense steps and healthy lifestyles. Through the HealthierUS Initiative, my Administration encourages Americans to work toward four simple goals that can lead to a healthy heart: exercise daily; develop good eating habits; avoid tobacco, drugs, and excessive alcohol; and take advantage of preventive screenings to detect problems early.

First Lady Laura Bush helps lead “The Heart Truth” campaign through her Women's Health and Wellness Initiative. The campaign was launched by business, non-profit, and government organizations, including the National Heart, Lung, and Blood Institute, to educate women about the risks of heart disease and to encourage them to make their cardiovascular health a priority. Along with the American Heart Association's “Go Red for Women” campaign, these initiatives use the red dress as a symbol to remind women to make healthy choices and talk with their doctors about heart disease.

As a result of the Medicare Modernization Act, our seniors have more choices to prevent, diagnose, and treat potential problems before they become worse. Medicare now covers preventive screenings, a “Welcome to Medicare” physical for new beneficiaries, and innovative programs to help seniors fight chronic threats. I urge all Medicare beneficiaries to take advantage of these measures as part of a healthy lifestyle.

All Americans can improve their heart health and live longer, better lives by taking an active role in their health care decisions and consulting their physician for the latest information. As we observe American Heart Month, we recognize those battling heart disease; we express gratitude to the family members and friends who are a source of love and encouragement; and we commend the medical professionals and researchers who provide assistance and work to find cures and improve treatments.

In acknowledgement of the importance of the ongoing fight against cardiovascular disease, the Congress, by Joint Resolution approved December 30, 1963, as amended (77 Stat. 843; 36 U.S.C. 101), has requested that the President issue an annual proclamation designating February as “American Heart Month.”

NOW, THEREFORE, I, GEORGE W. BUSH, President of the United States of America, do hereby proclaim February 2006 as American Heart Month, and I invite all Americans to participate in National Wear Red Day on February 3, 2006. I also invite the Governors of the States, the Commonwealth of Puerto Rico, officials of other areas subject to the jurisdiction of the United States, and the American people to join me in recognizing and reaffirming our commitment to combating heart disease.

IN WITNESS WHEREOF, I have hereunto set my hand this first day of February, in the year of our Lord two thousand six, and of the Independence of the United States of America the two hundred and thirtieth.

B

[FR Doc. 06-1098

Filed 2-3-06; 8:45 am]

Billing code 3195-01-P